DEPARTMENT OF TRANSPORTATION

Dynamic Mobility Applications and Data Capture Management Programs; Notice of Public Meeting

AGENCY: ITS Joint Program Office, Research and Innovative Technology Administration, U.S. Department of Transportation.

ACTION: Notice.

The U.S. Department of Transportation (USDOT) Intelligent Transportation System Joint Program Office (ITS JPO) will host a free public meeting to provide stakeholders an update on the Data Capture and Management (DCM) and Dynamic Mobility Applications (DMA) programs in the Washington DC area. The public meeting will take place following the conclusion of the ITS America Annual Meeting on May 24, 2012 at the Gaylord National Hotel and Convention Center, 201 Waterfront Street, National Harbor, Maryland 20745, (301) 965-2000. Persons planning to attend the workshop or participate in the Webinar should register online at www.itsa.org/dma no later than May 20, 2012.

The workshop is intended to inform stakeholders on the progress, products, and plans of the two programs, and to seek input from stakeholders on the direction of the programs. The morning agenda is planned as an informational session (with concurrent webinar), while the afternoon features interactive breakout sessions on critical issues designed to garner stakeholder feedback.

About the Dynamic Mobility Application and Data Capture Management Programs

The DMA program seeks to identify, develop, and deploy applications that leverage the full potential of connected vehicles, travelers and infrastructure to enhance current operational practices and transform future surface transportation systems management. The DCM is the creation and expansion of access to high-quality, real-time and archived, multi-modal transportation data that is captured from connected vehicles (automobiles, buses, trucks, fleets), mobile devices, and infrastructure. To learn more about the ITS JPO or the connected vehicle program, please visit www.its.dot.gov.

If you have any questions or you need any special accommodations, please send an email to Adam Hopps at Ahopps@itsa.org.

Issued in Washington, DC, on the 23rd day of March 2012.
John Augustine,
Managing Director, ITS Joint Program Office.

[FR Doc. 2012-7656 Filed 3-29-12; 8:45 am]

BILLING CODE 4910-HY-P